DEPARTMENT OF HEALTH AND HUMAN SERVICES

Centers for Disease Control and Prevention

[30 Day-07-07AL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Evaluation of the Successful Business Strategies to Prevent Heart Disease and Stroke Toolkit—NEW—Division for Heart Disease and Stroke Prevention (DHDSP), National Center for Chronic Disease Prevention and Health Promotion (NCCDPHP), Centers for Disease Control and Prevention (CDC).

Background and Brief Description

Under Part C (Centers for Disease Control and Prevention) of the Statement of Organization Functions, and Delegations of Authority of the Department of Health and Human Services (45 FR 67772-76, dated October 14, 1980, and corrected at 45 FR 69296, October 20, 1980, as amended most recently at 70 FR 72842-72843, dated December 7, 2005), the Division for Heart Disease and Stroke Prevention, National Center for Chronic Disease Prevention and Health Promotion, Centers for Disease Control and Prevention was established. This Division plans, directs, and coordinates programs to reduce morbidity, risk factors, costs, disability, mortality, and disparities associated with heart disease, stroke, and other cardiovascular disease outcomes. Under this Division, formative research was conducted to identify effective interventions and promising practices for preventing heart disease and stroke at the work site. In 2005, this research resulted in the development of a Successful Business Strategies to Prevent Heart Disease and Stroke Toolkit. The toolkit provides state programs with suggestions about which health benefits, services, and interventions can improve employee cardiovascular health, prevent heart disease and stroke, and reduce related costs. The second phase of this project focuses on disseminating and evaluating the Successful Business Strategies to Prevent Heart Disease and Stroke Toolkit.

As part of the Toolkit evaluation, the CDC has employed contractor support to design and conduct a Web-based survey of State Health Departments to gather information on their experiences with the Toolkit. The contractor will collect and analyze all data from this survey. The CDC has also contracted to make revisions to the toolkit based on results of this survey, ongoing feedback from the States, and feedback from employers through interviews.

There are no costs to respondents except their time to complete the survey. The total estimated annualized burden hours are 26.

Estimated Annualized Burden Hours
Form | Respondents | No. of respondents | No. of responses per respondent | Average burden per response (in hours) | Total burden (in hours)
Web-based survey on CVH Toolkit | State Heart Disease and Stroke Programs | 51 | 1 | 30/60 | 26

Dated: August 23, 2007.
Maryam I. Daneshvar,
Acting Reports Clearance Officer, Centers for Disease Control and Prevention.

[FR Doc. E7-17293 Filed 8-30-07; 8:45 am]

BILLING CODE 4163-18-P